GENERAL SERVICES ADMINISTRATION

[Notice-MG-2023-05; Docket No. 2023-0002; Sequence No. 45]

Office of Federal High-Performance Green Buildings; Notice of GSA's LED and Controls Guidance for Federal Buildings; and Webinar

AGENCY: Office of Federal High-Performance Green Buildings, Office of Government-wide Policy, General Services Administration (GSA).

ACTION: Notice.

SUMMARY: As required by the Bulb Replacement Improving Government with High-efficiency Technology Act (BRIGHT Act), this notice informs all agencies of guidance that GSA has published for the procurement and use of the most life-cycle cost effective and energy efficient lighting systems to increase the efficiency, effectiveness, and economy of the Federal Government.

DATES:

Applicable: December 14, 2023.

Webinar Date: GSA will be holding a webinar on Thursday, February 8, 2024 at 12:00 p.m. (Eastern Time) to provide more information on the guidance. To register for the webinar, please visit: https://gsa.zoomgov.com/webinar/register/WN_fCgHTJIPTA-_zpEv8xq_6A#/registration.

FOR FURTHER INFORMATION CONTACT: Mr. Bryan Steverson, Office of Federal High-Performance Green Buildings, Office of Government-wide Policy, GSA, at bryan.steverson@gsa.gov or 202-501-6115.

SUPPLEMENTARY INFORMATION: The BRIGHT Act (Pub. L. 117-202) requires GSA to issue guidance to Federal agencies for the procurement and use of the most life-cycle cost effective and energy efficient lighting systems to increase the efficiency, effectiveness, and economy of the Federal Government. The BRIGHT Act also requires GSA to publish on the internet or otherwise make available to State, local, and Tribal entities information on ways to improve efficiency, effectiveness, and economy by procuring and using the most life-cycle cost effective and energy efficient lighting systems (as determined in accordance with section 3313 of title 40, United States Code).

This guidance offers best practices and outlines different types of light-emitting diode (LED) fixtures and control options, how they can benefit buildings and occupants, and where they are best suited. The guidance covers the different types of LED installations, including tubular LEDs, retrofit kits, and new fixtures, and focuses on interior linear lighting because such systems represent the majority of lighting within the federal real estate portfolio. The guidance also discusses the decisions that need to be made in selecting a control system that complies with applicable code, project objectives, energy savings, and enhanced performance capabilities, and presents lessons learned from evaluations conducted by GSA's Green Proving Ground program and other real-world federal building deployments.

GSA has made this guidance available at https://www.gsa.gov/climate-action-and-sustainability/center-for-emerging-building-technologies/completed-assessments/lighting/led-lighting-and-controls-guidance.

GSA will be holding a webinar on Thursday, February 8, 2024 at 12:00 p.m. (Eastern Time) to provide more information on the guidance. To register for the webinar, please visit: https://gsa.zoomgov.com/webinar/register/WN_fCgHTJIPTA-_zpEv8xq_6A#/registration.

Kevin Kampschroer,
Federal Director, Office of Federal High-Performance Green Buildings, Office of Government-wide Policy.

[FR Doc. 2023-27502 Filed 12-13-23; 8:45 am]

BILLING CODE 6820-14-P